DEPARTMENT OF ENERGY

Revision to the Record of Decision for the Department of Energy's Waste Management Program: Treatment and Storage of Transuranic Waste

AGENCY: Department of Energy.

ACTION: Revision to record of decision.

SUMMARY: The Department of Energy (DOE), pursuant to 10 CFR 1021.315, is revising the Record of Decision for the Department of Energy's Waste Management Program: Treatment and Storage of Transuranic Waste (63 FR 3629) issued on January 23, 1998. The Department has now decided to establish the capability at WIPP to prepare for disposal up to 1,250 cubic meters of contact-handled transuranic (CH-TRU) waste out of about 7,000 cubic meters expected to be received annually for disposal at WIPP. In addition, DOE has decided to increase the time that CH-TRU waste may be stored above ground at WIPP to one year and to increase the total above-ground storage capacity at WIPP by 25 percent, for a total of 152 cubic meters. Implementation of these decisions is contingent on regulatory approval from the New Mexico Environment Department (NMED). Previously in its Record of Decision (ROD), based on the analysis in the Waste Management Programmatic Environmental Impact Statement, DOE/EIS-0200-F, May 1997 (WM PEIS), DOE had decided (with one exception) that each DOE site would prepare its own TRU waste for disposal and store it on-site until it could be shipped to WIPP for disposal.

FOR FURTHER INFORMATION: Copies of the Final Waste Management Programmatic Environmental Impact Statement, the first ROD, this revised ROD, and the Supplement Analysis for the Proposed Characterization for Disposal of Contact-Handled Transuranic Waste at the Waste Isolation Pilot Plant (DOE/EIS-0200-SA01) are available on DOE's NEPA Web Site at: http://tis.eh.doe.gov/nepa/ under DOE NEPA Analyses. To request copies of any of these documents, please write or call: The Center for Environmental Management Information, P.O. Box 23769, Washington, DC 20026-3769, Telephone: 1-800-736-3282 (in Washington, DC: 202-863-5084).

For further information on the disposal of TRU waste at WIPP, contact: Ms. Lynne Wade, Director, U.S. Department of Energy, WIPP Office EM-23, Office of Environmental Management, 19901 Germantown Road, Germantown, MD 20874, Telephone: (301) 903-3124.

For general information on the DOE's National Environmental Policy Act process, please write or call: Ms. Carol M. Borgstrom, Director, Office of NEPA Policy and Compliance (EH-42), U.S. Department of Energy, Office of Environment, Safety and Health, 1000 Independence Avenue, SW., Washington, DC 20585-0119, Telephone: (202) 586-4600, or leave a message at (800) 472-2756.

SUPPLEMENTARY INFORMATION:

Background

In the WM PEIS ROD, DOE decided to prepare and store TRU waste designated for disposal at WIPP at the DOE sites where the waste is currently located or will be generated (i.e., “the generator sites”) until it could be transferred to WIPP for disposal. The only exception to this decision was the Sandia National Laboratory in New Mexico, which will ship its waste to the Los Alamos National Laboratory for disposal preparation and storage before disposal in WIPP. Under the original ROD, preparation for disposal included activities to characterize TRU waste for transportation as well as activities to characterize TRU waste for disposal.

The phrase “characterize waste for transportation” means all activities that are necessary to prepare TRU waste to meet the transportation requirements for shipment to WIPP. It includes collecting, organizing, supplementing, and evaluating information about the process that generated the waste, the materials used in the process, the radioactive and hazardous constituents in the waste, and any sampling and analysis of the waste. Characterization for transportation also may require that the physical or chemical form of the waste be altered in order to make it suitable for transportation. This could include treatment activities that alter the form of the waste, such as solidifying liquids and neutralizing reactive wastes. Other activities that could be used to make the waste more suitable for transportation include the removal of items prohibited from being shipped in containers licensed by the Nuclear Regulatory Commission, or repackaging of waste to meet thermal power limitations. Characterizing waste for transportation to WIPP would continue to be done at the generator sites under a quality assurance program approved by DOE's Carlsbad Field Office (CBFO).

The phrase “characterize waste for disposal” refers to the characterization required by WIPP's Hazardous Waste Facility Permit and the Environmental Protection Agency (EPA) Compliance Certification. Under the permit, disposal characterization includes radioassay, radiography, headspace gas sampling of waste containers, and for a statistically selected number of containers, visual examination to confirm the results of radiography. Collectively, the activities involved in characterizing waste for transportation and characterizing waste for disposal comprise all of the activities necessary to prepare TRU waste to meet the Waste Acceptance Criteria (WAC), as defined in the WM PEIS ROD for TRU waste. Characterizing waste for disposal would continue to be performed as part of a program approved by DOE's CBFO, the NMED, and EPA.

Decision

DOE is revising its earlier ROD in order to create a centralized capability at WIPP to characterize for disposal up to 1,250 cubic meters of CH-TRU out of about 7,000 cubic meters expected to be received annually at WIPP for disposal. In addition, the time that CH-TRU waste may be stored above ground will be increased from 60 days to one year and the total above-ground storage capacity will be increased by 25 percent, for a maximum storage capacity of 152 cubic meters. The storage capacity in the Waste Handling Building could increase from 77 cubic meters to 107 cubic meters. This would allow DOE to accumulate the necessary amount of waste to demonstrate the disposal characterization program in order to obtain approval of the program from the EPA and NMED. This increase also would allow DOE, if needed, to store wastes during any delay in disposal operations, or in the unlikely event a prohibited item were received, to store it until it can be shipped offsite or otherwise disposed of.

Once TRU waste that has been characterized for transportation arrives at WIPP, the CBFO will perform the remaining activities needed to ensure the CH-TRU waste meets all regulatory requirements for disposal (disposal characterization). These activities may include the radioassay of waste containers to determine their radionuclide content; radiography to confirm the form of the waste and to verify the absence of prohibited items; and headspace gas sampling and analysis to quantify the concentrations of volatile organic compounds and to confirm the knowledge used to characterize the waste stream. The activities also will include visual examination or computed tomography of the contents of a selected number of waste containers to confirm the results of radiography.

DOE considers it highly unlikely that waste forms or items prohibited from disposal at WIPP would be shipped to WIPP because the generator sites' quality assurance programs for characterizing waste for transportation are designed to ensure that prohibited items are not shipped to WIPP. DOE's Office of General Counsel is working with CBFO to revise the standard Memorandum of Agreement between CBFO and generator sites in order to clarify the obligations of the generator sites regarding the management of prohibited items. If a prohibited item were found in waste shipped to WIPP for disposal characterization, it would be removed from the waste container (removal would be done inside of a glovebox), and DOE would then: (1) Return it to the generator site; (2) transport it to an approved waste management facility; or (3) treat the prohibited item in order to render it acceptable for disposal.

DOE's ability to implement its decision to perform disposal characterization on some CH-TRU waste at WIPP is contingent upon NMED approving a modification of WIPP's Hazardous Waste Facility Permit. The modification DOE plans to propose will specify the activities that DOE would perform at WIPP to characterize waste for disposal. NMED may approve, deny, or modify DOE's proposal. Accordingly, DOE cannot specify at this time the exact set of waste characterization activities it may be required to perform at WIPP; however, any characterization activities that NMED may require would necessarily fall within the broad array of activities and impacts that DOE already has analyzed under its prior NEPA reviews.

The equipment that CBFO will use to characterize waste for disposal will be located inside existing buildings at WIPP. Non-intrusive disposal characterization activities, such as radiography and radioassay, will be located inside the TRUPACT Maintenance Facility adjacent to the Waste Handling Building. The offices currently located in that building will be removed. Equipment used for intrusive characterization activities, such as the apparatus to sample headspace gas and gloveboxes, will be located in the Waste Handling Building at WIPP. Mobile glovebox facilities could be used until permanent gloveboxes can be procured and installed inside separate containment structures erected inside the Waste Handling Building. Emissions from the separate containment structures that will house the equipment used for intrusive sampling will be filtered through High Efficiency Particulate Air (HEPA) filters at least once and then fed into the Waste Handling Building's exhaust system, where they will be HEPA filtered again before being released to the atmosphere.

The disposal characterization capability at WIPP would have the ability to characterize approximately 4,000 to 6,000 drum volume equivalents (830 to 1,250 cubic meters) of waste annually. This would equate to about two or three shipments to WIPP per week that would be characterized there for disposal. Overall, DOE expects to begin receiving up to 17 shipments per week within the next two years. Most of this waste will have been fully characterized by the sites where it came from and would be ready for disposal. It is anticipated that an annual throughput of up to 1,250 cubic meters would not be maintained through the 35-year period of WIPP operation. This level of disposal characterization capacity would be used in the earlier years to assist sites in meeting compliance deadlines and closure schedules.

The primary purpose of centralized characterization at WIPP is to expedite the removal of waste from, and minimize expenditures at, sites with smaller inventories of CH-TRU waste, where setting up separate characterization programs would not be practical or cost effective. The characterization capability at WIPP also may be used to characterize for disposal some CH-TRU waste from sites with larger inventories, thereby accelerating removal of wastes from the Rocky Flats Environmental Technology Site in Colorado, the Idaho National Engineering and Environmental Laboratory, the Los Alamos National Laboratory in New Mexico, the Hanford Site in Washington, and the Savannah River Site in South Carolina. This approach would assist these sites in meeting compliance agreements, closure schedules, or other waste management needs. Disposal characterization at WIPP, however, would not eliminate the need for these sites to characterize most of their own wastes.

The WIPP Hazardous Waste Facility Permit requires that certain types of homogeneous wastes (e.g., solidified sludges and soils) must be sampled representatively and the samples chemically analyzed. These types of homogeneous wastes have not been identified at the sites with smaller inventories of CH-TRU waste. DOE is not proposing to conduct core sampling and chemical analysis of sludges and soils at WIPP; therefore, these types of wastes would not be sent to WIPP for characterization. Also, no remote-handled TRU waste will be characterized at WIPP.

CH-TRU Waste Volumes

The impacts of preparing (including characterizing) waste for disposal depend on the volume of waste to be characterized and treated. The WM PEIS analyzed the volume of CH-TRU waste projected to be generated over 20 years, a total of 113,592 cubic meters. The CH-TRU waste inventory currently projected to be disposed of in WIPP is 106,387 cubic meters.¹ DOE's recent projection of the total complex-wide CH-TRU waste volume that will be sent to WIPP is less than the Department's prior projections. This is due in part to DOE's redefined mission and accelerated closure schedules at many of its sites (resulting in less CH-TRU waste being produced than anticipated), and also recategorization of waste streams due to refined waste knowledge and data collection.

¹ National TRU Waste Management Plan (Draft), DOE/NTP-96-1204, December 2000.

Modification of WIPP's Hazardous Waste Facility Permit

As noted above, NMED must approve a modification of WIPP's Hazardous Waste Facility Permit (issued by NMED in October 1999) before DOE could perform disposal characterization there. In support of its proposal to establish centralized disposal characterization capability at WIPP, DOE submitted a permit modification request to NMED on July 21, 2000. DOE withdrew its request on September 29, 2000, however, shortly after the close of the public comment period on the modification and after discussions with NMED staff.

DOE will submit a revised permit modification request soon that will address issues raised by NMED and the public concerning DOE's earlier proposed modification. NMED received about 600 preprinted postcards and 27 other submissions from the public that raised the following concerns about DOE's proposed modification to the permit:

(1) In contrast to existing practice, the modification would allow DOE to open some drums of waste at WIPP in order to perform visual examination of their contents as a quality control check on the results of radiography.

(2) Shipment of waste to WIPP before it was completely characterized (i.e., for both transportation and disposal) could result in the discovery of prohibited items or wastes that could not be placed in the repository and would therefore remain in the above-ground facilities at WIPP indefinitely.

(3) The modification would continue NMED's ongoing inspection authority at WIPP instead of providing for NMED to approve the waste disposal characterization program at WIPP.

(4) The modification requested did not provide adequate justification for a 25 percent increase of WIPP's above-ground storage capacity.

(5) DOE should not be allowed to store waste indefinitely on the surface.

DOE will revise its request for a permit modification to address these and other issues raised by NMED and the public. DOE plans to propose that:

(1) Computed tomography be substituted for visual examination of waste drums so that they need not be opened at WIPP except in the unlikely event that a prohibited item is discovered.

(2) Any prohibited item be returned to the generator site; transported to an approved waste management facility; or treated in order to render the item acceptable for disposal in WIPP.

(3) All waste disposal characterization activities performed at WIPP and generator sites under the Hazardous Waste Facility Permit be approved by NMED.

(4) Above-ground storage capacity be increased by 25 percent. This increase is supported by a time and motion study prepared by the Sandia National Laboratory.

(5) The time limit on above-ground waste storage will not be indefinite; instead it will be increased from 60 days to one year.

DOE would not begin to characterize waste at WIPP unless and until NMED approves the permit modification request. Prior to NMED's decision on the revised modification request, DOE will begin to accelerate some physical changes needed in the TRUPACT Maintenance Facility that do not require regulatory approval, such as installation of an air lock, an additional fire wall, additional radiation monitors, and a spill coating on the concrete floor. In addition, DOE may begin procuring characterization equipment and contracting with providers of mobile characterization equipment so that DOE can begin training equipment operators and writing procedures for the proposed characterization operations at WIPP or at other sites. As stated previously, the decision on what, if any, particular waste characterization procedures will occur at WIPP depends on NMED's decision concerning the revised permit modification request.

Basis for DOE's Decision

The high costs of fully characterizing waste at all its sites were not apparent when DOE decided that each generator site would be responsible for preparing its waste for disposal in the WIPP repository. At the time DOE made its earlier decision, NMED had not issued the WIPP Hazardous Waste Facility Permit and EPA had not certified that the repository met EPA's requirements for disposal of TRU waste. The permit and the certification imposed additional requirements on WIPP concerning the characterization of waste for disposal. In particular, both EPA and NMED concluded that they needed to approve aspects of the waste characterization process at each site that intended to dispose of waste in WIPP. The costs of modifying programs and procedures to conform to these waste characterization requirements, especially those related to audits and approvals, were much greater than DOE had anticipated. These requirements increased the time and resources needed to establish waste disposal characterization programs at each site with TRU waste.

In light of the increased costs and potential for delays in shipping waste to WIPP, particularly from sites with small inventories of CH-TRU waste, DOE began to look for ways to reduce the number of approved waste characterization programs it would need. One way to reduce the number of programs would be to establish a centralized disposal characterization capability at WIPP while keeping transportation characterization programs at the small quantity sites. This approach would reduce the costs of preparing CH-TRU waste for disposal as well as reduce the number of waste disposal characterization programs that DOE would need to create and that DOE, NMED and EPA would need to approve. Establishing a centralized characterization program at WIPP would enable EPA and NMED to use their staff resources more efficiently because they would have fewer waste characterization programs to approve than would be the case if DOE had to establish separate disposal characterization programs at all of the sites that have or would generate TRU waste.

DOE has estimated the costs of characterizing waste for disposal at each generator site and the cost of creating a waste characterization capability at WIPP. The Department estimates that the latter approach could save as much as $100 million as compared to its former approach. Given the potentially large cost savings, DOE has decided to seek approval from NMED of a centralized waste characterization capability at WIPP.

Prior NEPA Analyses

DOE prepared a Supplement Analysis for the Proposed Characterization for Disposal of Contact-Handled Transuranic Waste at the Waste Isolation Pilot Plant (DOE/EIS-0200-SA01). This analysis was done to determine whether the activities and impacts of characterizing for disposal some CH-TRU waste at WIPP are encompassed within prior NEPA reviews.

The Supplement Analysis concluded that the activities and impacts of performing disposal characterization on some CH-TRU at WIPP are encompassed within the activities and impacts of the Centralized Alternative analyzed in the WM PEIS. However, the impacts of the activities that will result from DOE's revised decision will be much smaller than the impacts of the Centralized Alternative evaluated in the WM PEIS for two reasons. First, the Centralized Alternative assumed that virtually all of DOE's CH-TRU would be treated at WIPP. The characterization equipment that DOE has decided to locate at WIPP will characterize only a small portion of DOE's projected inventory of CH-TRU waste. Second, the Centralized Alternative analyzed in the WM PEIS assumed that the centralized facility at WIPP would treat CH-TRU waste by incineration. The characterization equipment DOE will install in existing buildings at WIPP pursuant to this revised decision would only characterize and, as needed, repackage CH-TRU waste; it would not incinerate or thermally treat any TRU waste. These two differences have the effect of making the potential environmental impacts of disposal characterization at WIPP significantly less than the impacts of the Centralized Alternative analyzed in the WM PEIS and well below applicable standards.

Based on the Supplement Analysis, DOE determined that characterizing some of DOE's CH-TRU waste at WIPP would not involve actions that are substantially different from those analyzed in prior NEPA analyses or have impacts beyond those already evaluated. Therefore, DOE concluded that it did not need to prepare additional NEPA analysis before deciding whether to locate a centralized disposal characterization facility at WIPP. Implementation of DOE's decision is contingent upon approval by NMED of a modification to WIPP's Hazardous Waste Facility Permit and WIPP's waste characterization program.

Issued in Washington, DC, December 19, 2000.
Carolyn L. Huntoon,
Assistant Secretary for Environmental Management.

[FR Doc. 00-33308 Filed 12-28-00; 8:45 am]

BILLING CODE 6450-01-P